DEPARTMENT OF HEALTH AND HUMAN SERVICES

Centers for Disease Control and Prevention

National Vaccine Advisory Committee, Centers for Disease Control and Prevention: Notice of Charter Renewal

This gives notice under the Federal Advisory Committee Act (Pub. L. 92-463) of October 6, 1972, that the National Vaccine Advisory Committee, Centers for Disease Control and Prevention, of the Department of Health and Human Services, has been renewed for a 2-year period extending through July 30, 2003.

FOR FURTHER INFORMATION CONTACT: Martin G. Myers, M.D., Executive Secretary, National Vaccine Advisory Committee, Centers for Disease Control and Prevention, 1600 Clifton Road, NE, (D-66), Atlanta, Georgia 30333, telephone 404/687-6672 or fax 404/687-6687.

The Director, Management Analysis and Services office has been delegated the authority to sign Federal Register notices pertaining to announcements of meetings and other committee management activities, for both the Centers for Disease Control and Prevention and the Agency for Toxic Substances and Disease Registry.

Dated: August 3, 2001.
Carolyn J. Russell,
Director, Management Analysis and Services Office, Centers for Disease Control and Prevention.

[FR Doc. 01-19956 Filed 8-8-01; 8:45 am]

BILLING CODE 4163-18-P